NUCLEAR REGULATORY COMMISSION

10 CFR Parts 11 and 25

[NRC-2011-0161]

RIN 3150-AJ00

Access Authorization Fees

AGENCY: Nuclear Regulatory Commission.

ACTION: Direct final rule; confirmation of effective date.

SUMMARY: The U.S. Nuclear Regulatory Commission (NRC or the Commission) is confirming the effective date of June 22, 2012, for the direct final rule that it published in the Federal Register on May 3, 2012. The direct final rule amended the NRC's access authorization fees charged to licensees for work performed under the Material Access Authorization Program (MAAP) and the Information Access Authority Program (IAAP).

DATES: The effective date for the direct final rule published in the Federal Register on May 3, 2012 (77 FR 26149) is confirmed as June 22, 2012.

ADDRESSES: Please refer to Docket ID NRC-2011-0161 when contacting the NRC about the availability of information for this direct final rule. You may access information and comment submittals related to this direct final rulemaking, which the NRC possesses and is publicly available, by any of the following methods:

• Federal Rulemaking Web Site: Go to http://www.regulations.gov and search for Docket ID NRC-2011-0161.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Emily Robbins, Office of Administration, U.S. Nuclear Regulatory Commission, Washington, DC 20555-0001; telephone: 301-492-3524, email: Emily.Robbins@nrc.gov.

SUPPLEMENTARY INFORMATION: On May 3, 2012 (77 FR 26149), the NRC published a direct final rule amending its regulations at Title 10 of the Code of Federal Regulations (10 CFR) part 11, “Criteria and Procedures for Determining Eligibility for Access to or Control Over Special Nuclear Material,” and 10 CFR part 25, “Access Authorization.” The NRC amended its access authorization fees charged to licensees for work performed under the MAAP and the IAAP. The amended cost is the result of an increase in the review time for each application for access authorization. The formula for calculating fees remains based on current Office of Personnel Management (OPM) billing rates for personnel background investigations. The NRC designed the formula to recover the full cost of processing a request for access authorization from the licensee. The use of the fee assessment formula tied to current OPM billing rates eliminates the need for the NRC to update its access authorization fee schedules through regular rulemaking. In the direct final rule, the NRC stated that, if it received no significant adverse comments, the direct final rule would become final on June 22, 2012.

The NRC did not receive any comments on the direct final rule. Therefore, this rule will become effective as scheduled.

Dated at Rockville, Maryland, this 19th day of June 2012.
For the Nuclear Regulatory Commission.
Cindy K. Bladey,
Chief, Rules, Announcements, and Directives Branch, Office of Administration.

[FR Doc. 2012-15274 Filed 6-21-12; 8:45 am]

BILLING CODE 7590-01-P